FEDERAL COMMUNICATIONS COMMISSION

47 CFR Part 4

[ET Docket No. 04-35, RM 11588, DA 10-220]

California Public Utilities Commission Petition for Rulemaking

AGENCY: Federal Communications Commission.

ACTION: Petition for rulemaking.

SUMMARY: The California Public Utilities Commission (“CPUC”) filed a Petition for Rulemaking requesting that the Federal Communications Commission (Commission or FCC grant State public utilities commissions direct access to the Commission's Network Outage Reporting System (NORS). The CPUC also requests password-protected access to California-specific disruption and outage data in the NORS. The FCC seeks comment on this petition.

DATES: Submit statements in support of or in opposition to the petition for rulemaking on or before March 4, 2010; replies to statements in support of or in opposition to the petition for rulemaking should be submitted on or before March 19, 2010.

ADDRESSES: You may submit comments, identified by RM-11588 and/or ET Docket No. 04-35, by any of the following methods:

• Federal eRulemaking Portal: http://www.regulations.gov. Follow the instructions for submitting comments.

• Federal Communications Commission's Web Site: http://fjallfoss.fcc.gov/ecfs2/. Follow the instructions for submitting comments.

• Mail: Commission's Secretary, Office of the Secretary, Federal Communications Commission, 445 12th Street, SW., Washington, DC 20554.

• People With Disabilities: Contact the FCC to request materials in accessible formats for people with disabilities (Braille, large print, electronic files, audio format) by e-mail: FCC504@fcc.gov or phone: 202-418-0530 or TTY: 202-418-0432.

For detailed instructions for submitting comments and additional information on the rulemaking process, see the SUPPLEMENTARY INFORMATION section of this document.

FOR FURTHER INFORMATION CONTACT: For additional information contact Jean Ann Collins, Deputy Chief, Communications Systems Analysis Division, Public Safety and Homeland Security Bureau, Federal Communications Commission, at (202) 418- 2792 or jeanann.collins@fcc.gov.

SUPPLEMENTARY INFORMATION: The Public Safety and Homeland Security Bureau invites public comment on the petition for rulemaking filed on November 12, 2009, by the California Public Utilities Commission (“CPUC”). The CPUC petitions the Commission, pursuant to Section 1.401 of the Commissions rules, requesting that the Federal Communications Commission (Commission or FCC) grant State public utilities commissions direct access to the Commission's Network Outage Reporting System (NORS) database. The CPUC also informally requests, pursuant to Section 1.41 of the Commission's rules, that the Commission act to allow the CPUC password-protected access to the NORS database that is “limited to California-specific disruption and outage data.”

NORS is the Web-based filing system through which certain communications providers submit reports to the Commission of disruptions to communications as required by part 4 of the Commission's rules. Reports of service disruptions filed in NORS are presumed to be confidential. Currently, the Commission shares NORS data only with the Department of Homeland Security (DHS).

CPUC states that the Commission found that mandatory reporting of network outages was “the only reliable way to collect this important information for use by this Commission and, where appropriate, for other government entities.” The CPUC asserts that, during the part 4 rulemaking proceeding, no State public utility commission requested access to the part 4 service disruption data and the Commission did not address whether it should or would grant State public utilities commissions the same direct access to the NORS reports that it provided to DHS.

CPUC states that because the public health and safety, as well as California's economy, depend heavily on reliable and well functioning wireline and wireless voice and data communications networks, it is critical that the CPUC have access to the same level of service outage detail found in NORS reports in order to effectively analyze the data. CPUC adds that State commissioners, like the FCC, are responsible for overseeing the reliability and security of their State's respective communications infrastructures and, in times of crisis, local and State authorities are often the first responders. CPUC states that, because of this, California has adopted “the FCC's NORS requirements” and implemented safeguards to ensure the confidentiality of the information received.

CPUC asserts that its goal is to obtain the data necessary to perform its “traditional role of protecting public health and safety through monitoring of communications network functionality” without requiring duplicative reporting by telecommunications providers. Acknowledging national security concerns, it seeks to allow states access to the NORS database if they can show that appropriate protections are in place that would ensure that the confidentiality of the data is maintained.

The petition for rulemaking is available for public inspection and copying in the Commission's Reference Center, Room CY-A257, 445 12th Street, SW., Washington, DC 20554. Copies of the request also may be obtained via the Commission's Electronic Comment Filing System (ECFS) by entering the docket number, ET Docket No. 04-35. Copies of the request also are available from Best Copy and Printing, Inc., telephone (800) 378-3160, facsimile (301) 816-0169, e-mail fcc@bcpiweb.com.

Pursuant to section 1.405 of the Commission's rules, 47 CFR 1.405, interested parties may file statements in support of or in opposition to the petition for rulemaking not later than March 4, 2010. Any interested parties may file replies to statements in support of or in opposition to the petition for rulemaking not later than March 19, 2010. Statements and replies may be filed using: (1) The Commission's Electronic Comment Filing System (ECFS), (2) the Federal Government's eRulemaking Portal, or (3) by filing paper copies. See Electronic Filing of Documents in Rulemaking Proceedings, 63 FR 24121 (1998).

Electronic Filers: Comments may be filed electronically using the Internet by accessing the ECFS: http://fjallfoss.fcc.gov/ecfs2/ or the Federal eRulemaking Portal: http://www.regulations.gov.

Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

Effective December 28, 2009, all hand-delivered or messenger-delivered paper filings for the Commission's Secretary must be delivered to FCC Headquarters at 445 12th St., SW., Room TW-A325, Washington, DC 20554. All hand deliveries must be held together with rubber bands or fasteners. Any envelopes must be disposed of before entering the building. The filing hours are 8 a.m. to 7 p.m.

Commercial overnight mail (other than U.S. Postal Service Express Mail and Priority Mail) must be sent to 9300 East Hampton Drive, Capitol Heights, MD 20743.

U.S. Postal Service first-class, Express, and Priority mail must be addressed to 445 12th Street, SW., Washington DC 20554.

In addition, interested parties shall send one copy of their statements and replies to Best Copy and Printing, Inc., Portals II, 445 12th Street, SW., Room CY-B402, Washington, DC 20554, (800) 378-3160, e-mail fcc@bcpiweb.com.

Filings and comments are also available for public inspection and copying during business hours in the FCC Reference Information Center, Portals II, 445 12th Street, SW., Room CY-A257, Washington, DC 20554, and via the Commission's Electronic Comment Filing System (ECFS) by entering the docket number, ET Docket No. 04-35. They may also be purchased from the Commission's duplicating contractor, Best Copy and Printing, Inc., Portals II, 445 12th Street, SW., Room CY-B402, Washington, DC 20554, telephone: (202) 488-5300 or (800) 378-3160, fax: (202) 488-5563, or via e-mail fcc@bcpiweb.com.

People With Disabilities: To request materials in accessible formats for people with disabilities (braille, large print, electronic files, audio format), send an e-mail to fcc504@fcc.gov or call the Consumer & Governmental Affairs Bureau at 202-418-0530 (voice), 202-418-0432 (tty).

James Arden Barnett, Jr.,
Chief, Public Safety and Homeland Security Bureau, Federal Communications Commission.

[FR Doc. 2010-2772 Filed 2-8-10; 8:45 am]

BILLING CODE 6712-01-P